DEPARTMENT OF HOUSING AND URBAN DEVELOPMENT

24 CFR Parts 5, 943, and 982

[Docket No. FR-5778-C-02]

HUD Implementation of Fiscal Year 2014 Appropriations Provisions on Public Housing Agency Consortia, Biennial Inspections, Extremely Low-Income Definition, and Utility Allowances; Technical Correction

AGENCY: Office of the Assistant Secretary for Housing-Federal Housing Commissioner, HUD.

ACTION: Notice of statutory changes; correction.

SUMMARY: On June, 25, 2014, HUD published a document implementing statutory changes made by the Department of Housing and Urban Development Appropriations Act, 2014 to certain programs administered by HUD's Office of Housing and HUD's Office of Public and Indian Housing. In the discussion of implementation of the new definition of “extremely low-income” applicable to multifamily projects administered by HUD's Office of Housing, the document referred to “contract administrators” and it should have referenced “owners.” This document makes that correction.

DATES: Effective Date: September 11, 2014.

FOR FURTHER INFORMATION CONTACT: Claire Brolin, Office of Multifamily Housing Programs, Office of Housing, U.S. Department of Housing and Urban Development, 451 7th Street SW., Room 6106, Washington, DC 20410 at 202-402-6634 (this is not a toll-free number). Persons with hearing or speech impairments may access either of these numbers through TTY by calling the toll-free Federal Relay Service at 800-877-8339.

SUPPLEMENTARY INFORMATION: In the Federal Register of June 25, 2014, in FR Doc. 2014-14915, beginning on page 39540, the following corrections are made:

1. On page 35942, in the first column, correct the second paragraph under section “C. Extremely Low-Income” to read:

Beginning with the effective date of this notice, a PHA or owner shall meet its targeting requirements through a combination of ELI admissions prior to the effective date (using the prior definition) and ELI admissions after the effective date (using the new statutory definition). Neither a PHA nor an owner may skip over a family on the waiting list if that family meets the new definition of ELI as enacted by this section.

2. On page 35942, in the first column, correct the fifth paragraph under section “C. Extremely Low-Income” to read:

For the multifamily project-based section 8 programs, the owner must make available for occupancy by ELI families not less than 40 percent of the section 8-assisted dwelling units that become available for occupancy in any fiscal year.

1. On page 35942, in the second column, correct the seventh paragraph under section “C. Extremely Low-Income” to read:

In some communities, the extremely low-income and very low-income levels will be identical for some or all household sizes, in which case PHAs or owners meet their ELI targeting requirements by serving VLI households, since those families meet the new definition of ELI. To reduce the work a PHA or owner must do to determine which standard it should be using, HUD's Office of Policy Development and Research has calculated the new income limits for extremely low-income families, taking the previous sentence into account, and has made the new area income limits available online at http://www.huduser.org/portal/datasets/il/il14/index.html.

Dated: September 4, 2014.
Carol J. Galante,
Assistant Secretary for Housing—Federal Housing Commissioner.

[FR Doc. 2014-21637 Filed 9-10-14; 8:45 am]

BILLING CODE 4210-67-P